DEPARTMENT OF THE INTERIOR

Bureau of Indian Affairs

Colorado River Indian Tribes—Amendment to Health & Safety Code, Article 2. Liquor

AGENCY: Bureau of Indian Affairs, Interior.

ACTION: Notice.

SUMMARY: This notice publishes the amendment to the Colorado River Tribal Health and Safety Code, Article 2. Liquor, Section 2-403(12). The Code regulates and controls the possession, sale and consumption of liquor within the Colorado River Indian Tribes' Reservation. The land is located on trust land and this Code allows for the possession and sale of alcoholic beverages within the Colorado River Indian Tribes' Reservation. This Code will increase the ability of the tribal government to control the distribution and possession of liquor within their reservation, and at the same time will provide an important source of revenue, the strengthening of the tribal government and the delivery of tribal services.

DATES: Effective Date: This Amendment is effective as of January 12, 2012.

FOR FURTHER INFORMATION CONTACT: Sharlot Johnson, Tribal Government Services Officer, Western Regional Office, Bureau of Indian Affairs, 2600 North Central Avenue, Phoenix, AZ 85004, Telephone: (602) 379-6786; Fax: (602) 379-4100; or De Springer, Office of Indian Services, Bureau of Indian Affairs, 1849 C Street NW., MS-4513 MIB, Washington, DC 20240; Telephone (202) 513-7626.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Colorado River Indian Tribal Council adopted this amendment to the Colorado River Tribal Health and Safety Code, Article 2, Liquor by Ordinance No. 10-03 on December 13, 2010.

This notice is published in accordance with the authority delegated by the Secretary of the Interior to the Assistant Secretary—Indian Affairs. I certify that the Tribal Council duly adopted this amendment to the Colorado River Indian Tribes'—Health and Safety Code, Article 2—Liquor on December 13, 2010.

Dated: December 5, 2011.
Jodi Gillette,
Deputy Assistant Secretary—Indian Affairs.

The amendment to Colorado River Indian Tribes'—Health and Safety Code, Article 2—Liquor, Section 2-403(12) reads as follows:

(12) for a Class 1, Class 2, Class 3, Class 4 licensee, or his employee, to sell or give any liquor to any person on the licensed premises between the hours of two o'clock a.m. and six o'clock a.m., on the Arizona side of the Reservation, or between the hours of two o'clock a.m. and six o'clock a.m., Pacific Standard or Daylight time, whichever is then generally in effect in California, on the California side of the Reservation, or permit the consumption of liquor on the licensed premises in those places during those hours and those days;

[FR Doc. 2011-31875 Filed 12-12-11; 8:45 am]

BILLING CODE 4310-4J-P